NATIONAL AERONAUTICS AND SPACE ADMINISTRATION

[Notice 12-092]

NASA Advisory Council; Information Technology Infrastructure Committee; Meeting

AGENCY: National Aeronautics and Space Administration.

ACTION: Notice of meeting.

SUMMARY: In accordance with the Federal Advisory Committee Act, Public Law 92-463, as amended, the National Aeronautics and Space Administration announce a meeting for the Information Technology Infrastructure Committee (ITIC) of the NASA Advisory Council (NAC).

DATES: Tuesday, November 27, 2012, 1:00 to 5:00 p.m., Local Time.

ADDRESSES: NASA Marshall Space Flight Center, Building 4200, Room P-110, Marshall Space Flight Center, AL 35812.

FOR FURTHER INFORMATION CONTACT: Jason Gillis, ITIC Executive Secretary, NASA Headquarters, 300 E Street SW., Washington, DC 20546, Phone: 202-358-0431.

SUPPLEMENTARY INFORMATION: The agenda topics for the meeting will include:

• Information Technology—The Effects on and Utilization in Earth Science Research

• Human Space Flight Operations at Marshall Space Flight Center

• Chandra/X-Ray Astronomy

• Mobile Applications

• Wide Area Networks

The meeting will be open to the public up to the seating capacity of the room. This meeting is also available telephonically and by WebEx. You must use a touch tone phone to participate in this meeting. Any interested person may call the USA toll free conference call number (866) 731-2093 and then enter the numeric participant passcode: 8467465 followed by the # sign. To join via WebEx the link is https://nasa.webex.com, meeting number 994 547 552, and password NAC@MSFC1127. It is imperative that the meeting be held on this date to accommodate the scheduling priorities of the key participants. All U.S. citizens desiring to attend the NAC Information Technology Infrastructure Committee meeting at the Marshall Space Flight Center (MSFC) must provide his or her full name, company affiliation (if applicable), citizenship, place of birth, and date of birth to the MSFC Protective Services Office no later than the close of business on November 19, 2012. All non-U.S. citizens must submit his or her name, current address, citizenship, company affiliation (if applicable) to include address, telephone number, and title, place of birth, date of birth, U.S. visa information to include type, number, and expiration date, U.S. Social Security Number (if applicable), Permanent Resident card number and expiration date (if applicable), place and date of entry into the U.S., and passport information to include country of issue, number, and expiration date to the MSFC Protective Services Office no later than the close of business on November 12, 2012. If the above information is not received by the noted dates, attendees should expect a minimum delay of two (2) hours. All visitors to this meeting will be required to process in through the Redstone/MSFC Joint Visitor Control Center located on Rideout Road, north of Gate 9 prior to entering MSFC. Please provide the appropriate data, via fax 256-544-2101, noting at the top of the page “Public Admission to the NAC Information Technology Infrastructure Committee Meeting.” For security questions, please call Becky Hopson at 256-544-4541.

Patricia D. Rausch,
Advisory Committee Management Officer, National Aeronautics and Space Administration.

[FR Doc. 2012-27232 Filed 11-7-12; 8:45 am]

BILLING CODE 7510-13-P